DEPARTMENT OF EDUCATION

Notice of Proposed Information Collection Requests

AGENCY: Department of Education.

ACTION: Correction Notice.

SUMMARY: On December 21, 2006, the Department of Education published a notice in the Federal Register (Page 76641, Column 2) for the information collection, “Social and Character Development Research Program National Evaluation.” This notice hereby corrects the burden hours to 8,081 and the annual responses to 15,859.

The IC Clearance Official, Regulatory Information Management Services, Office of Management, hereby issues a correction notice as required by the Paperwork Reduction Act of 1995.

Dated: December 27, 2006.
James Hyler,
Acting Leader, Information Policy and Standard Team, Regulatory Information Management Services, Office of Management.

[FR Doc. E6-22490 Filed 12-29-06; 8:45 am]

BILLING CODE 4000-01-P